DEPARTMENT OF THE INTERIOR

Fish and Wildlife Service

[FWS-R1-2009-N146; 1265-0000-10137-S3]

Kaua`i National Wildlife Refuge Complex, Kaua`i County, HI

AGENCY: Fish and Wildlife Service, Interior.

ACTION: Notice of intent to prepare a comprehensive conservation plan and environmental assessment and announcement of public open house meetings; request for comments.

SUMMARY: We, the U.S. Fish and Wildlife Service (Service), intend to prepare a comprehensive conservation plan (CCP) for the Kīlauea Point, Hanalei, and Hulē`ia National Wildlife Refuges (NWRs). We will also prepare an environmental assessment (EA) to evaluate the potential effects of various CCP alternatives. We provide this notice in compliance with our CCP policy to advise the public, other Federal and State agencies, and Native Hawaiian organizations of our intentions and to obtain suggestions and information on the scope of issues to be considered in the planning process. We are also announcing public open house meetings and requesting public comments; see SUPPLEMENTARY INFORMATION for details.

DATES: To ensure consideration, please send your written comments by November 27, 2009.

ADDRESSES: Send your comments or requests for more information by any of the following methods:

E-mail: FW1PlanningComments@fws.gov. Include “Kaua`i NWR Complex CCP Scoping Comments” in the subject line of the message.

Fax: Attn: Shannon Smith, (808) 828-1413.

U.S. Mail: Kaua`i National Wildlife Refuge Complex, P.O Box 1128, Kilauea, HI 96754.

Additional information concerning the NWRs is available on the Internet at http://www.fws.gov/hanalei/; http://www.fws.gov/huleia/; and http://www.fws.gov/kilaueapoint/.

FOR FURTHER INFORMATION CONTACT: Shannon Smith, (808) 828-1413, or Shannon_Smith@fws.gov.

SUPPLEMENTARY INFORMATION:

Background

The CCP Process

The National Wildlife Refuge System Administration Act of 1966 (16 U.S.C. 668dd-668ee) (Administration Act), as amended by the National Wildlife Refuge System Improvement Act of 1997, requires us to develop a CCP for each national wildlife refuge. The purpose of developing a CCP is to provide refuge managers with a 15-year direction for achieving refuge purposes and contributing toward the mission of the National Wildlife Refuge System (NWRS), consistent with sound principles of fish and wildlife conservation, legal mandates, and Service policies. In addition to outlining broad management direction on conserving wildlife and their habitats, CCPs identify wildlife-dependent recreational opportunities available to the public, including opportunities for hunting, fishing, wildlife observation, wildlife photography, and environmental education and interpretation.

The Service will prepare a CCP/EA in compliance with the National Environmental Policy Act (NEPA) of 1969, as amended (42 U.S.C. 4321 et seq.); NEPA Regulations (40 CFR parts 1500-1508); other appropriate Federal laws and regulations; and our policies and procedures for compliance with those laws and regulations.

Each unit of the NWRS was established for specific purposes. We use these purposes to develop and prioritize management goals and objectives within the NWRS mission and to guide which public uses occur on a refuge. The planning process is a way for us and the public to evaluate management goals and objectives for the best possible approach to wildlife, plant, and habitat conservation, while providing for wildlife-dependent recreational opportunities that are compatible with a refuge's establishing purposes and the mission of the NWRS.

We will conduct a planning process that provides opportunities for the public, Federal and local government agencies, Native Hawaiian organizations, and others to participate in issue scoping and public comment. We request input for issues, concerns, ideas, and suggestions for the future management of the Hanalei, Hulē`ia and Kīlauea Point NWRs.

We will also give the public an opportunity to provide input at open houses to identify issues and concerns. All information provided voluntarily by mail, phone, or at public meetings becomes part of our official public record. We will handle requests for comments received in accordance with the Freedom of Information Act, NEPA, and other applicable statutory authorities.

The Refuges

Hanalei, Hulē`ia, and Kīlauea Point National Wildlife Refuges (NWRs) are part of the Kaua`i National Wildlife Refuge Complex (NWRC or Complex). Hanalei NWR, located along the lower reach and floodplain of the Hanalei River along the northern shore of Kaua`i, was established in 1972 for the purpose of providing habitat for Hawai`i's endangered water birds and the Hawaiian goose. Hulē`ia NWR, located along the Hulē`ia River on Kaua`i's eastern shore, was established in 1973 for the purpose of providing habitat for Hawai`i's endangered water birds. Kīlauea Point NWR, located at the northern most point of Kaua`i, was established in 1985 for the purpose of providing habitat for seabirds, nēnē, and native plants, to preserve the historic light station, and provide environmental education to the public. Kīlauea Point NWR's purpose was expanded in 2004 to include conserving and managing the biological diversity of native coastal strand, riparian, and aquatic habitats, and continue the protection and recovery of endangered Hawaiian water birds and other endangered birds, including the Hawaiian goose.

Scoping: Preliminary Issues, Concerns, and Opportunities

We have identified preliminary issues, concerns, and opportunities to be addressed in the CCP; additional issues may be identified through public scoping.

During the CCP planning process, the Service will analyze methods for protecting the resources of the Hanalei, Hulē`ia, and Kīlauea Point NWRs while providing quality opportunities for wildlife-dependent recreation. The Service will evaluate public use programs and facilities, cultural and historic resources, cooperative farming, alternative transportation opportunities, wetland management, land acquisition, and endangered species interactions with humans.

Public Meetings

“Talk Story” Sessions

To begin the public scoping phase of the planning process, we will hold a number of facilitated “Talk Story” Sessions for the public, Refuge neighbors, and others. These facilitated sessions are designed to gather information about local knowledge and cultural ties for each of the refuges, including stories passed down through generations of living on, working on, and enjoying the Refuges' lands, waters, and natural and cultural resources. These sessions will be open to the public and held in communities near the Refuges to encourage local participation.

Public Open House Meetings

We will also hold Public Open House Meetings as part of public scoping to answer questions, obtain comments on Refuge management issues, and learn about natural resource issues important to the public, the State, and other agencies and organizations. In order to incorporate the information we gain from the Talk Story Sessions into the Public Open House Meetings, the meetings will be held several weeks after the Talk Story Sessions. We will provide additional opportunities for public involvement throughout our CCP planning process. Public involvement opportunities will be announced in local news media, on our websites, and through our mailing list.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: August 13, 2009.
David J. Wesley,
Acting Regional Director, Region 1, Portland, Oregon.

[FR Doc. E9-23169 Filed 9-25-09; 8:45 am]

BILLING CODE 4310-55-P